DEPARTMENT OF DEFENSE

Office of the Secretary

U.S. Nuclear Command and Control System Comprehensive Review Advisory Committee

AGENCY: Department of Defense.

ACTION: Notice of meeting.

SUMMARY: Under the provisions of the Federal Advisory Committee Act of 1972 (5 U.S.C., Appendix, as amended), the Government in the Sunshine Act of 1976 (5 U.S.C. para. 552b, as amended), and 41 CFR para. 102-3.150, the Department of Defense announces that the following Federal Advisory Committee meeting of the U.S. Nuclear Command and Control System Comprehensive Review Advisory Committee will take place. This meeting is a continuation of the meeting scheduled to be held on February 3, 2009, that was announced in the Federal Register on January 23, 2009 (74 FR 4142). The February 3, 2009, meeting was rescheduled to February 18, 2009, and then to March 2, 2009.

DATES: March 31, 2009 from 0800-1600.

ADDRESSES: Nuclear Command and Control System Support Staff, 5201 Leesburg Pike, Falls Church, VA 22041.

FOR FURTHER INFORMATION CONTACT: Mr. William L. Jones, (703) 681-1924, U.S. Nuclear Command and Control System Support Staff (NSS), Skyline 3, 5201 Leesburg Pike, Suite 500, Falls Church, Virginia 22041.

SUPPLEMENTARY INFORMATION: Purpose of the Meeting: Continuation of previous meeting for the Federal Advisory Committee to continue to review and discuss contents of its Final Report.

Agenda: March 31, 2009.

Time | Topic | Presenter
8:30 a.m | Administrative Remarks | CAPT Budney, USN (NSS).
8:45 a.m | Review and Discussion
10:45 a.m | Break
11 a.m | Review and Discussion
12 p.m | Lunch
1 p.m | Review and Discussion
3:15 p.m | Break
3:30 p.m | Deliberations and Guidance
4:30 p.m | Adjourn

Pursuant to 5 U.S.C. para. 552b, as amended and 41 CFR para. 102-3.155, the Department of Defense has determined that the meeting shall be closed to the public. The Director, U.S. Nuclear Command and Control System Support Staff, in consultation with his General Counsel, has determined in writing that the public interest requires that all sessions of the committee's meeting will be closed to the public because they will be concerned with classified information and matters covered by section 5 U.S.C. para. 552b(c)(1).

Committee's Designated Federal Officer: Mr. William L. Jones, (703) 681-8681, U.S. Nuclear Command and Control System Support Staff (NSS), Skyline 3, 5201 Leesburg Pike, Suite 500, Falls Church, Virginia 22041. William.jones@nss.pentagon.mil.

Pursuant to 41 CFR paras. 102-3.105(j) and 102-3.140, and section 10(a)(3) of the Federal Advisory Committee Act of 1972, the public or interested organizations may submit written statements at any time to the Nuclear Command and Control System Federal Advisory Committee about its mission and functions. All written statements shall be submitted to the Designated Federal Officer for the Nuclear Command and Control System Federal Advisory Committee. He will ensure that written statements are provided to the membership for their consideration. Written statements may also be submitted in response to the stated agenda of planned committee meetings. Contact information for the Designated Federal Officer is listed above.

March 25, 2009.
Patricia L. Toppings,
OSD Federal Register Liaison Officer, Department of Defense.

[FR Doc. E9-7293 Filed 3-31-09; 8:45 am]

BILLING CODE 5001-06-P